DEPARTMENT OF DEFENSE

Office of the Secretary

32 CFR Parts 344, 352a, 383a, 395, 396, 397, 398, and 399

[Docket ID: DOD-2016-OS-0102]

RIN 0790-AJ53

Organizational Charters

AGENCY: Department of Defense.

ACTION: Final rule.

SUMMARY: This final rule removes Department of Defense (DoD) Subchapter R concerning organizational charters. The rules in this subchapter address DoD organizational processes for Assistant Secretary of Defense for Reserve Affairs (ASD(RA)), Defense Finance and Accounting Service (DFAS), Defense Commissary Agency (DeCA), and Defense Legal Services Agency (DLSA). It has been determined that there is no need to codify the rules in the Code of Federal Regulations (CFR) because these documents will not create a mandate applicable to persons outside of the DoD.

DATES: Effective October 20, 2016.

FOR FURTHER INFORMATION CONTACT: Patricia Toppings at 571-372-0485.

SUPPLEMENTARY INFORMATION: A copy of the current DoD Directives may be obtained from the DoD Directives Division Web site at the following Web addresses: http://www.dtic.mil/whs/directives/corres/pdf/512501p.pdf, http://www.dtic.mil/whs/directives/corres/pdf/511805p.pdf, http://www.dtic.mil/whs/directives/corres/pdf/510555p.pdf, http://www.dtic.mil/whs/directives/corres/pdf/514504p.pdf.

Moreover, it has been determined that publication of these CFR part removals for public comment is impracticable, unnecessary, and contrary to public interest since it is based on removing DoD internal policies and procedures that are publically available on the Department's issuance Web site.

List of Subjects in 32 CFR Parts 344, 352a, 383a, 395, 396, 397, 398, and 399

Authority delegations (Government agencies), Legal services, Organization and functions (Government agencies).

Subchapter R—[Removed]

Accordingly, by the authority of 5 U.S.C. 301, Title 32, subtitle A, chapter I, is amended by removing subchapter R, consisting of parts 344, 352a, 383a, and 395 through 399.

Dated: October 14, 2016.
Aaron Siegel,
Alternate OSD Federal Register Liaison Officer, Department of Defense.

[FR Doc. 2016-25330 Filed 10-19-16; 8:45 am]

BILLING CODE 5001-06-P